ENVIRONMENTAL PROTECTION AGENCY

[EPA-HQ-OPP-2007-1056; FRL-8350-5]

Pesticide Emergency Exemptions; Agency Decisions and State and Federal Agency Crisis Declarations

Editorial Note: This notice did not appear in the issue of Wednesday, February 27, 2008. As a result, it is being printed in its entirety.

AGENCY: Environmental Protection Agency (EPA).

ACTION: Notice.

SUMMARY: EPA has granted or denied emergency exemptions under the Federal Insecticide, Fungicide, and Rodenticide Act (FIFRA) for use of pesticides as listed in this notice. The exemptions or denials were granted during the period October 1, 2007 through December 31, 2007 to control unforeseen pest outbreaks.

FOR FURTHER INFORMATION CONTACT: See each emergency exemption or denial for the name of a contact person. The following information applies to all contact persons: Team Leader, Emergency Response Team, Registration Division (7505P), Office of Pesticide Programs, Environmental Protection Agency, 1200 Pennsylvania Ave., NW., Washington, DC 20460-0001; telephone number: (703) 308-9366.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions discussed above. If you have any questions regarding the applicability of this action to a particular entity, consult the person listed under FOR FURTHER INFORMATION CONTACT.

B. How Can I Get Copies of this Document and Other Related Information?

1. Docket. EPA has established a docket for this action under docket identification (ID) number EPA-HQ-OPP-2007-1056. Publicly available docket materials are available either electronically at http://www.regulations.gov, or, if only available in hard copy, at the OPP Regulatory Public Docket in Rm. S-4400, One Potomac Yard (South Bldg.), 2777 S. Crystal Dr., Arlington, VA. The hours of operation of this Docket Facility is open from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

EPA has granted or denied emergency exemptions to the following State and Federal agencies. The emergency exemptions may take the following form: Crisis, public health, quarantine, or specific. EPA has also listed denied emergency exemption requests in this notice.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

California

Environmental Protection Agency, Department of Pesticide Regulation

Specific Exemption: EPA authorized the use of thiabendazole as a seed treatment on Brussels sprout, cabbage, and cauliflower to control black leg disease (Phoma lingam); November 17, 2007 to November 17, 2008. Contact: (Stacey Groce).

EPA authorized the use of thiophanate-methyl on mushroom to control green mold; October 26, 2007 to October 26, 2008. Contact: (Andrea Conrath).

Crisis: On November 29, 2007, for the use of boscalid and pyraclostrobin on Belgian endive to control Sclerotinia. This program is expected to end on January 31, 2008. Contact: (Stacey Groce).

Colorado

Department of Agriculture

Specific Exemption: EPA authorized the use of clothianidin on beet, sugar beet, seed to control beet leafhopper (beet curly top virus); December 15, 2007 to September 30, 2008. Contact: (Stacey Groce).

Connecticut

Department of Environmental Protection

Crisis: On December 18, 2007, for the use of chlorine dioxide on a contaminated building to inactive Bacillus anthracis spores. This program has ended. Contact: (Princess Campbell).

Delaware

Department of Agriculture

Specific Exemption: EPA authorized the use of thiophanate-methyl on mushroom to control green mold; January 14, 2008 to January 14, 2009. Contact: (Andrea Conrath).

Florida

Department of Agriculture and Consumer Services

Specific Exemption: EPA authorized the use of fludioxonil on carambola to control Dothiorella fruit rot; November 30, 2007 to November 30, 2008. Contact: (Andrea Conrath).

Indiana

Office of Indiana State Chemist

Specific Exemption: EPA authorized the use of tebuconazole on corn, field, seed to control head smut; November 1, 2007 to May 31, 2008. Contact: (Andrew Ertman).

Maryland

Department of Agriculture

Specific Exemption: EPA authorized the use of thiophanate-methyl on mushroom to control green mold; Effective January 14, 2008 to January 14, 2009. Contact: (Andrea Conrath).

Minnesota

Department of Agriculture

Specific Exemption: EPA authorized the use of anthraquinone on corn, field, and sweet, seed to control sandhill crane; November 5, 2007 to July 30, 2008. Contact: (Marcel Howard).

Oregon

Department of Agriculture

Specific Exemption: EPA authorized the use of thiophanate-methyl on mushroom to control green mold; October 26, 2007 to October 26, 2008. Contact: (Andrea Conrath).

EPA authorized the use of clothianidinin on beet, sugar, seed to control beet leafhopper (beet curly top virus); December 15, 2007 to September 30, 2008. Contact: (Stacey Groce).

Pennsylvania

Department of Agriculture

Specific Exemption: EPA authorized the use of thiophanate-methyl on mushroom to control green mold; Effective January 8, 2008 to January 8, 2009. Contact: (Andrea Conrath).

Texas

Department of Agriculture

Crisis: On November 26, 2007, for the use of thiophanate-methyl on citrus to control postbloom fruit drop and stem-end rot. A specific exemption request has been submitted to EPA for this use. This program is ongoing. Contact: (Andrea Conrath).

Specific Exemption: EPA authorized the use of triflumizole on parsley; dandelion; swiss chard; collards; kale; kohlrabi; mustard greens; Chinese napa cabbage; coriander, leaves; broccoli; and turnip greens to control powdery mildew (Erysiphe spp.); November 2, 2007 to November 2, 2008. Contact: (Libby Pemberton).

EPA authorized the use of formetanate hydrochloride on dry bulb onions to control thrips; December 28, 2007 to May 31, 2008. Contact: (Andrew Ertman).

Washington

Department of Agriculture

Specific Exemption: EPA authorized the use of thiabendazole as a seed treatment on Brussels sprout, cabbage, and cauliflower to control blackleg disease (phoma lingam); November 17, 2007 to November 17, 2008. Contact: (Stacey Groce).

Wisconsin

Department of Agriculture, Trade, and Consumer Protection

Specific Exemption: EPA authorized the use of anthraquinone on corn, field, and sweet, seed to control sandhill crane; December 13, 2007 to July 30, 2008. Contact: (Marcel Howard).

Wyoming

Department of Agriculture

Specific Exemption: EPA authorized the use of clothianidin on beet, sugar, seed to control beet leafhopper (beet curly top virus); December 13, 2007 to September 30, 2008. Contact: (Stacey Groce).

B. Federal Department and Agencies

United States Department of Agriculture

Animal and Plant Health Inspector Service

Quarantine: EPA authorized the use of E-11-tetradecen-1-yl acetate on all agricultural crops and all residential areas to control the light brown apple moth; October 5, 2007 to October 1, 2010. Contact: (Andrew Ertman).

Quarantine: EPA authorized the use of bacillus thuringiensis on cotton to control the pink boll worm; October 31, 2007 to October 31, 2010. Contact: (Andrea Conrath).

List of Subjects

Environmental protection, Pesticides and pests.

Dated: February 14, 2008.
Donald R. Stubbs,
Acting Director, Registration Division, Office of Pesticide Programs.

Editorial Note: This notice did not appear in the issue of Wednesday, February 27, 2008. As a result, it is being printed in its entirety.

[FR Doc. E8-3491 Filed 2-26-08; 8:45 am]

BILLING CODE 6560-50-S